DEPARTMENT OF AGRICULTURE

Food and Nutrition Service

Food Stamp Program: Agency Information Collection Activities: Proposed Collection; Comment Request; Disaster Food Stamp Assistance

AGENCY: Food and Nutrition Service, USDA.

ACTION: Notice.

SUMMARY: In accordance with Paperwork Reduction Act of 1995, this notice invites the general public and other public agencies to comment on proposed information collections. This information collection is based on the Robert T. Stafford Disaster Relief and Emergency Assistance Act and section 5(h) of the Food Stamp Act of 1977, as amended, which provide the Secretary of Agriculture with the authority to develop an emergency food stamp program to address the needs of families temporarily in need of food assistance after a disaster. The information collection under this notice is required for the establishment and operation of emergency food stamp assistance programs.

DATES: Written comments must be received on or before November 15, 2002.

ADDRESSES: Comments are invited on: (a) Whether the proposed collection of information is necessary for the proper performance of the functions of the agency, including whether the information shall have practical utility; (b) the accuracy of the agency's estimate of the burden of the proposed collection of information including the validity of the methodology and assumptions used; (c) ways to enhance the quality, utility, and clarity of the information to be collected; (d) ways to minimize the burden of the collection of information on those who respond, including through the use of appropriate automated, electronic, mechanical, or other technological collection techniques or other forms of information technology. Comments may be sent to Patrick Waldron, Branch Chief, Certification Policy Branch, Program Development Division, Food and Nutrition Service, U.S. Department of Agriculture, 3101 Park Center Drive, Alexandria, VA 22302. Comments may also be faxed to the attention of Mr. Waldron at (703) 305-2486. The Internet address is: patrick.waldron@FNS.USDA.GOV. All written comments will be open for public inspection at the office of the Food and Nutrition Service during regular business hours (8:30 a.m. to 5 p.m., Monday through Friday) at 3101 Park Center Drive, Alexandria, Virginia, 22302, Room 812.

All responses to this notice will be summarized and included in the request for OMB approval. All comments will be a matter of public record.

FOR FURTHER INFORMATION CONTACT: Requests for additional information should be directed to Mr. Waldron at (703) 305-2495.

SUPPLEMENTARY INFORMATION: Title: Emergency Food Stamp Assistance for Victims of Disasters.

OMB Number: 0584-0336.

Expiration Date: 1/31/2000.

Type of Request: Reinstatement with a change of a previously approved collection for which approval has expired.

Abstract: Pursuant to the Robert T. Stafford Disaster Relief and Emergency Assistance Act and section 5(h) of the Food Stamp Act of 1977, as amended, the Secretary of Agriculture has the authority to develop an emergency food stamp program to address the temporary food needs of families following a disaster. The information collection under this notice is required to be provided by State agencies in order to receive approval from the Food and Nutrition Service (FNS) to operate an emergency food stamp program as the result of a disaster.

The number of disasters that occur annually and the average number of households affected by disasters cannot be accurately predicted. In reviewing the number of disasters for the last three fiscal years, we found that although the number of disasters remained relatively constant, most disasters covered small geographic areas and affected small populations resulting in a decreased reporting burden. In 1999, there were eight disasters with the number of disaster-affected households ranging from 93 to 147,189. In 2000, there were four disasters with the number of disaster-affected households ranging from 12 to 40,149. In 2001, there were four disasters and the number of disaster-affected households ranging from 410 to 56,060. The information collection under this reporting burden is limited to burden encountered by State agencies in preparing their requests to operate disaster food stamp programs. We estimate that approximately 10 hours of State agency personnel time would be required to prepare such requests. Previously, we had included in this information collection the burden associated with the application process experienced by disaster victims applying for assistance under State disaster food stamp programs as well as the burden experienced by State and local food stamp personnel in processing such applications. Upon review we have determined that the reporting burden associated with the process of applying for food stamp benefits under disaster food stamp programs has been included in approved information collection under the overall food stamp application-processing burden (approved under OMB no. 0584-0064) and that including the application-processing burden under this information collection would be redundant.

Based on an estimate of six State agency requests per year to operate disaster food stamp programs and 10 hours of State agency personnel time to prepare each application, we have calculated an estimated burden of 60 hours per year in an average year. We note that in most years the number of disasters (six) necessitating the operation of disaster food stamp programs falls below the minimum threshold for which OMB approval of the reporting burden associated with this information collection is required. Since an above average number of disasters may occur in any given year we have elected to submit this information collection to OMB for their approval, and consequently, are requesting public comments associated with the collection.

Affected Public: Food Stamp recipients; State and local governments.

Estimated Number of Responses: 6.

Estimated Number of Respondents: 6.

Estimated Number of Responses per Recipient: 1.

Estimated Time per Response: 10 hours.

Estimated Total Annual Burden: 60 hours.

Dated: September 5, 2002.
Roberto Salazar,
Administrator, Food and Nutrition Service.

[FR Doc. 02-23488 Filed 9-13-02; 8:45 am]

BILLING CODE 3410-30-P